DEPARTMENT OF ENERGY

Federal Energy Regulatory Commission

Notice of Application Ready for Environmental Analysis and Soliciting Comments, Recommendations, Terms, and Conditions, and Prescriptions

May 15, 2001.

Take notice that the following hydroelectric application has been filed with the Commission and is available for public inspection.

a. Type of Application: New Major License.

b. Project No.: 1932-004.

c. Date filed: April 29, 1994.

d. Applicant: Southern California Edison Company.

e. Name of Project: Lytle Creek Hydroelectric Project.

f. Location: On Lytle Creek, near the town of Devore, San Bernardino County, California. The project is located within the San Bernardino National Forest.

g. Filed Pursuant to: Federal Power Act 16 U.S.C. 791(a)-825(r).

h. Applicant Contact: Mr. Walter D. Pagel, Manager of Eastern Hydro Region, Southern California Edison Company, 300 N. Lone Hill Avenue, San Dimas, CA 91773, (909) 394-8720.

i. FERC Contact: Mr. Jon Cofrancesco (202) 219-0079 or E-mail address at jon.cofrancesco@FERC.fed.us.

j. Deadline for filing comments, recommendations, terms and conditions, and prescriptions: August 31, 2001.

All documents (original and eight copies) should be filed with: David P. Boergers, Secretary, Federal Energy Regulatory Commission, 888 First Street, NE., Washington, DC 20426. Comments, recommendations, terms and conditions, protests, interventions, and prescriptions may be filed electronically via the internet in lieu of paper. See 18 CFR 385.2001(a)(1)(iii) and the instructions on the Commission's web site at http://www.ferc.fed.us/efi/doorbell.htm.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is now ready for environmental analysis.

l. The existing Lytle Creek Hydroelectric Project consists of: (1) a 3-foot-high, 200-foot-long rubble masonry gravity dam; (2) a concrete intake structure with trashracks and a revolving fish screen; (3) a concrete-lined sandtrap, (4) a 4.3-mile-long flowline system comprised of 13 tunnels, a covered-concrete flume, a concrete pipeline, five siphons and 28 concrete and steel surge pipes; (5) a 750 cubic-foot concrete forebay; (6) a 1,546-foot-long, 30 to 26 inch-diameter steel penstock; (7) a powerhouse containing two generating units with a combined installed capacity of 500-kW; (8) a 904-foot-long tailrace siphon; (9) a 50-foot-long, 12-kV transmission line tap; and (10) related appurtenant facilities. The applicant proposes to continue operating the existing project.

m. A copy of the application is available for inspection and reproduction at the Commission's Public Reference Room, located at 888 First Street, NE., Room 2-A, Washington, DC 20426, or by calling (202) 208-1371. The application may be viewed on http://www.ferc.fed.us/online/rims.htm (call (202) 208-2222 for assistance). A copy is also available for inspection and reproduction at the address in item h above.

n. The Commission directs, pursuant to Section 4.34(b) of the Regulations (see Order No. 533 issued May 8, 1991, 56 FR 23108, May 20, 1991) that all comments, recommendations, terms and conditions and prescriptions concerning the application be filed with the Commission 60 days from the issuance date of this notice, or longer if appropriate (see item j). All reply comments must be filed with the Commission within 45 days from the date of the comment deadline.

Anyone may obtain an extension of time for these deadlines from the Commission only upon a showing of good cause or extraordinary circumstances in accordance with 18 CFR 385.2008.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

David P. Boergers,
Secretary.

[FR Doc. 01-12637 Filed 5-18-01; 8:45 am]

BILLING CODE 6717-01-M